DEPARTMENT OF THE INTERIOR

Minerals Management Service

Outer Continental Shelf (OCS) Scientific Committee (SC); Announcement of Plenary Session

AGENCY: Minerals Management Service (MMS), Interior.

ACTION: Notice of meeting.

SUMMARY: The OCS Scientific Committee will meet at the Fairfax Marriott at Fair Oaks in Fairfax, Virginia.

DATES: Thursday, November 6, 2008, from 8:30 a.m. to 4:30 p.m.; and Friday, November 7, 2008, from 8:30 a.m. to 4 p.m.

ADDRESSES: Fairfax Marriott at Fair Oaks, 11787 Lee Jackson Memorial Highway, Fairfax, Virginia, telephone (703) 352-2525.

FOR FURTHER INFORMATION CONTACT: A copy of the agenda may be requested from MMS by calling Ms. Carolyn Beamer at (703) 787-1211. Other inquiries concerning the OCS SC meeting should be addressed to Dr. James Kendall, Executive Secretary to the OCS SC, Minerals Management Service, 381 Elden Street, Mail Stop 4043, Herndon, Virginia 20170-4817 or by calling (703) 787-1656.

SUPPLEMENTARY INFORMATION: The OCS SC will provide advice on the feasibility, appropriateness, and scientific value of the OCS Environmental Studies Program to the Secretary of the Interior through the Director of the MMS. The SC will review the relevance of the research and data being produced to meet MMS scientific information needs for decision making and may recommend changes in scope, direction, and emphasis.

The Committee will meet in plenary session on Thursday, November 6. The Director will present an overview of MMS and the Associate Director will address the Committee on new opportunities and challenges. There will be an update on activities in the Gulf of Mexico, Alaska, and Pacific OCS Regions.

On Friday, November 7, the Committee will meet in plenary session to discuss Committee business and updates will be provided by the Deepwater, Arctic, Alternative and Renewable Energy, Marine Minerals, and Decommissioning Subcommittees.

The meetings are open to the public. Approximately 30 visitors can be accommodated on a first-come-first-served basis at the plenary session.

Authority: Federal Advisory Committee Act, Pub. L. 92-463, 5 U.S.C., Appendix I, and the Office of Management and Budget's Circular A-63, Revised.

Dated: October 15, 2008.
James J. Kendall,
Acting Associate Director for Offshore Energy and Minerals Management.

[FR Doc. E8-25399 Filed 10-23-08; 8:45 am]

BILLING CODE 4310-MR-P